DEPARTMENT OF ENERGY

Environmental Management Site-Specific Advisory Board, Oak Ridge Reservation

AGENCY: Department of Energy.

ACTION: Notice of open meeting.

SUMMARY: This notice announces a meeting of the Environmental Management Site-Specific Advisory Board (EMSSAB), Oak Ridge Reservation. The Federal Advisory Committee Act (Pub. L. 92-463, 86 Stat. 770) requires that public notice of this meeting be announced in the Federal Register.

DATES: Wednesday, December 8, 2004, 6 p.m.

ADDRESSES: DOE Information Center, 475 Oak Ridge Turnpike, Oak Ridge, TN.

FOR FURTHER INFORMATION CONTACT: Pat Halsey, Federal Coordinator, Department of Energy, Oak Ridge Operations Office, PO Box 2001, EM-90, Oak Ridge, TN 37831. Phone (865) 576-4025; Fax (865) 576-5333 or e-mail: halseypj@oro.doe.gov or check the Web site at http://www.oakridge.doe.gov/em/ssab.

SUPPLEMENTARY INFORMATION: Purpose of the Meeting: To provide an update on the Witherspoon site in South Knoxville. The Witherspoon 901 site served as a scrap metal recycling facility for 45 years. The site received scrap from the Atomic Energy Commission, a DOE predecessor agency, and other organizations. Contaminated surface water and soil have been found at the site. Primary contaminants include uranium, heavy metals, organics and polychlorinated biphenyls (PCBs). The site is now a Tennessee Department of Environmental and Conservation Superfund site. DOE is overseeing the site cleanup in accordance with a Memorandum of Understanding with the State of Tennessee.

Tentative Agenda:

• Update on Witherspoon site in South Knoxville. Speaker—Jason Darby of U.S. Department of Energy (DOE).

Public Participation: The meeting is open to the public. Written statements may be filed with the Committee either before or after the meeting. Individuals who wish to make oral statements pertaining to agenda items should contact Pat Halsey at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes of this meeting will be available for public review and copying at the Department of Energy's Information Center at 475 Oak Ridge Turnpike, Oak Ridge, TN between 8 a.m. and 5 p.m., Monday through Friday, or by writing to Pat Halsey, Department of Energy Oak Ridge Operations Office, PO Box 2001, EM-90, Oak Ridge, TN 37831, or by calling her at (865) 576-4025.

Issued in Washington, DC on November 16, 2004.
Rachel M. Samuel,
Deputy Advisory Committee Management Officer.

[FR Doc. 04-25693 Filed 11-18-04; 8:45 am]

BILLING CODE 6450-01-P